NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 671 of the Code of Federal Regulations. This is the required notice of permit applications received.

DATES: Interested parties are invited to submit written data, comments, or views with respect to this permit application by December 5, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2014-024

1. Applicant: Ron Naveen, Oceanites Inc, Chevy Chase MD.

Activity for Which Permit Is Requested

Waste Permit; The applicant seeks to maintain two audio recorders that were deployed under an earlier permit and install up to 15 additional recorders. The recorders would be installed near Gentoo penguin colonies and would be used to monitor the colonies as part of the long term ecological study, the Antarctic Site Inventory, conducted by Oceanites Inc. Installation of the recorders would be conducted while performing penguin survey activities authorized under ACA 2014-001 (previously issued to Ron Naveen). The recorders would be installed 3-5 meters from the edge of a penguin colony and would be enclosed in sealed weatherproof metal housing. The recorders would be powered by a combination of AA and D size batteries. The recorders would be visited at least once per year and all dead batteries removed for proper disposal outside of the Antarctic.

Location

Bailey Head, Barrientos Island, Booth Island, Brown Bluff, Cuvervile Island Damoy Point, Danco Island, Georges Point, Jougla Point, Moot Point, Neko Harbor, Petermann Island, Pleneau Island, Ronge Island East, Yalour Island, Yankee Harbour

Dates

December 3, 2013 to August 31, 2018.

Nadene G. Kennedy,
Polar Coordination Specialist, Division of Polar Programs.

[FR Doc. 2013-26398 Filed 11-4-13; 8:45 am]

BILLING CODE 7555-01-P